DEPARTMENT OF THE TREASURY

Internal Revenue Service

Internal Revenue Service Advisory Council; Public Meeting

AGENCY: Internal Revenue Service, Department of Treasury.

ACTION: Notice of public meeting.

SUMMARY: The Internal Revenue Service Advisory Council will hold a public meeting.

DATES: Wednesday, July 16, 2025.

ADDRESSES: The meeting will be held virtually via Microsoft Teams.

FOR FURTHER INFORMATION CONTACT: Anna Millikan, Office of National Public Liaison, at 202-317-6564 or send an email to PublicLiaison@irs.gov.

SUPPLEMENTARY INFORMATION: Pursuant to the Federal Advisory Committee Act, the Internal Revenue Services announced the Internal Revenue Service Advisory Council (IRSAC) will hold a public meeting on Wednesday, July 16, 2025, at 2:00 p.m. Eastern to discuss topics that may be recommended for inclusion in a future report of the Council.

The meeting will be held virtually via Microsoft Teams. Members of the public planning to attend should register by July 11 by contacting Anna Millikan at 202-317-6564 or sending an email to PublicLiaison@irs.gov. Attendees are encouraged to join at least five minutes before the meeting begins.

Agenda items to be discussed may include but are not limited to: enhancements to IRS operations; suggestions for administrative and policy changes to improve taxpayer experience and service, compliance and tax administration; information reporting issues; and matters concerning tax-exempt and government entities. The meeting agenda will be posted online prior to the meeting at the IRSAC web page, www.irs.gov/irsac.

Should you wish the IRSAC to consider a written statement germane to the Council's work, file the statement by sending an email to PublicLiaison@irs.gov by July 11, 2025.

Dated: June 11, 2025.
John A. Lipold,
Designated Federal Official, Office of National Public Liaison, Internal Revenue Service.

[FR Doc. 2025-10990 Filed 6-16-25; 8:45 am]

BILLING CODE P